FEDERAL TRADE COMMISSION

Granting of Request for Early Termination of the Waiting Period Under the Premerger Notification Rules

Section 7A of the Clayton Act, 15 U.S.C. 18a, as added by Title II of the Hart-Scott Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
TRANSACTIONS GRANTED EARLY TERMINATION—05/27/2008
20081147 | Umbrellastream Limited Partnership Incorporated | Expro International Group PLC | Expro International Group PLC.
20081198 | Tygris Commercial Finance Group, Inc | New Cap, L.L.C | Marcap LLC.
20081220 | General Electric Company | A123 Systems, Inc | A123 Systems, Inc.
TRANSACTIONS GRANTED EARLY TERMINATION—05/28/2008
20080541 | DG FastChannel, Inc | Level 3 Communications, Inc | Vyvx, LLC.
20081121 | Blum Strategic Partners IV, L.P | Avid Technology, Inc | Avid Technology, Inc.
20081176 | Valero Energy Corporation | AB Acquisition, LLC | Albertson's LLC.
20081203 | Trian Star Trust | Triarc Companies, Inc | Triarc Companies, Inc.
20081204 | Triarc Companies, Inc | Wendy's International, Inc | Wendy's International, Inc.
20081221 | Alon Israel Oil Company, Ltd | Valero Energy Corporation | Valero Refining Company—Louisiana.
20081222 | Carlyle Partners V US. L.P | Booz Allen Hamilton Inc. | Booz Allen Hamilton Inc.
TRANSACTIONS GRANTED EARLY TERMINATION—05/29/2008
20081160 | Constellation Energy Group, Inc | IBERDROLA, S.A | West Valley Leasing Company, LLC.
20081178 | Carl C. Icahn | Yahoo! Inc | Yahoo! Inc.
20081179 | Icahn Partners Master Fund LP | Yahoo! Inc | Yahoo! Inc.
20081180 | Icahn Partners LP | Yahoo! Inc | Yahoo! Inc.
20081181 | Icahn Partners Master Fund II LP | Yahoo! Inc | Yahoo! Inc.
TRANSACTIONS GRANTED EARLY TERMINATION—05/30/2008
20080735 | Diageo plc | Diageo Company No. III B.V | Diageo Company No. Ill B.V.
20081168 | Colam Entreprendre S.A | Donald R. Tapia | EGM, Inc.
|  |  | ESSCO Companies.
20081175 | Melrose PLC | FKI plc | FKI plc.
20081183 | KBR, Inc | T. Michael Goodrich | BE&K, Inc.
20081190 | Platinum Equity Capital Partners II, L.P | Maxim Crane Works Holdings, Inc | Maxim Crane Works Holdings, Inc.
20081200 | Tontine Capital Partners, L.P | Broadwind Energy, Inc. | Broadwind Energy, Inc.
20081223 | Battery Ventures VIII, L.P | 3M Company | High Jump, Software, LLC.
|  |  | HighJump Software, Ltd.
TRANSACTIONS GRANTED EARLY TERMINATION—06/02/2008
20081196 | Intercell AG | Iomai Corporation | Iomai Corporation.
20081199 | Steel Dynamics, Inc | ASAP Investors, LLC | Recycle South, LLC.
20081227 | Knight Capital Group, Inc | Gary Katcher | Libertas Holdings LLC.
20081229 | Cablevision Systems Corporation | General Electric Company | Cassidy Holdings, Inc.
20081231 | Fenway Partners Capital Fund Ill, L.P | Polar Group Holdings, L.L.C | Preferred Freezer Services, LLC.
20081232 | Ametek, Inc | Vision Research, Inc | Vision Research, Inc.
20081233 | Porsche Automobil Holdings SE | Volkswagen Aktiengesellschaft | Volkswagen Aktiengesellschaft.
20081237 | Charles W. Ergen | TerreStar Corporation | TerreStar Corporation.
20081238 | TerreStar Corporation | Charles W. Ergen | Port L.L.C.
20081239 | Greenfield Acquisition Partners V.L.P | Clayton Holdings, Inc | Clayton Holdings, Inc.
20081241 | GSC Acquisition Company | Complete Energy Holdings, LLC | Complete Energy Holdings, LLC.
20081244 | UnitedHealth Group Incorporated | Fidelity Sedgwick Holdings, Inc | Fidelity Sedgwick Holdings, Inc.
20081247 | Elizabeth Arden, Inc | Liz Claiborne, Inc | Juicy Couture, Inc.
|  |  | L.C. Licensing, Inc.
|  |  | Liz Claiborne Cosmetics, Inc.
|  |  | Lucky Brand Dungarees, Inc.
20081254 | D.E. Shaw Composite International Fund | Foamex International Inc | Foamex International Inc.
TRANSACTIONS GRANTED EARLY TERMINATION—06/03/2008
20081188 | NuVasive, Inc | Osiris Therapeutics, Inc. | Osiris Therapeutics, Inc.
20081249 | Sunoco Logistics Partners L.P | Exxon Mobil Corporation | ExxonMobil Oil Corporation.
|  |  | Mobil Pipe Line Company.
TRANSACTIONS GRANTED EARLY TERMINATION—06/04/2008
20081169 | Honeywell International Inc | Francisco Partners II, L.P | Metrologic Holding Corporation.
TRANSACTIONS GRANTED EARLY TERMINATION—06/05/2008
20080115 | SABMiller plc | MillerCoors | MillerCoors.
20081202 | Danfoss A/S | Sauer Holding GmbH | Sauer-Danfoss, Inc.
20081240 | Daiichi Sankyo Company, Limited | U3 Pharma AG | U3 Pharma AG.
20081248 | Lighthouse Holdings Parent, Inc | AMR Corporation | American Beacon Advisors, Inc.
TRANSACTIONS GRANTED EARLY TERMINATION—06/06/2008
20081182 | Mitsui Chemicals, Inc | Compass Diversified Holdings | Silvue Technologies Group, Inc.
20081212 | Basic Energy Services, Inc | Grey Wolf, Inc | Grey Wolf, Inc.
20081213 | Grey Wolf, Inc | Basic Energy Services, Inc | Basic Energy Services, Inc.
20081255 | Publix Super Markets, Inc | AB Acquisition LLC | Albertson's LLC.
20081259 | SES Holdings Limited | Saxon Energy Services, Inc | Saxon Energy Services, Inc.
20081260 | United Online, Inc | FTD Group, Inc | FTD Group, Inc.
20081262 | International Power plc | Warburg Pincus Private Equity IX, L.P | WP APT Generation II, Inc.
|  |  | WP APT Generation, Inc.
|  |  | WP APT Generation IV, Inc.
|  |  | WP APT Generation V, Inc.
|  |  | WP APT Generation Ill, Inc.
20081263 | International Power plc | Tenaska Power Fund, L.P | TPF Calumet, LLC.
20081270 | Stone Energy Corporation | Comstock Resources, Inc | Bois d'Arc Energy, Inc.
20081271 | Comstock Resources, Inc | Stone Energy Corporation | Stone Energy Corporation.
TRANSACTIONS GRANTED EARLY TERMINATION—06/09/2008
20081269 | Alexey Mordashov | WCI Steel, Inc | WCI Steel, Inc.
20081273 | 3M Company | Ronald A. Bulard | IMTEC Corporation.
TRANSACTIONS GRANTED EARLY TERMINATION—06/10/2008
20081057 | PPL Corporation | The Bear Stearns Companies, Inc | BE Ironwood LLC.
20081211 | Pentair, Inc | Newco JV | Newco JV.
20081264 | Carlyle Partners IV, L.P. | Ronald D. Mann | Airtechnics, Inc.
20081283 | Arsenal Capital Partners Qualified Purchaser Fund II LP | Arsenal Capital Partners Qualified Purchaser Fund LP | New Velsicol Chemical Corporation.
TRANSACTIONS GRANTED EARLY TERMINATION—06/11/2008
20081205 | Tyco International Ltd | FirstService Corporation | Intercon Security Limited.
20081251 | NC VII Limited | Bristol-Myers Squibb Company | ConvaTec.
20081297 | The Allstate Corporation | General Electric Company | Credit Card Sentinel, Inc.
|  |  | GE Dental & Vision.
|  |  | GE Motor Club, Inc.
|  |  | GE Motor Club of California.
|  |  | Ocoma Industries, Inc.
|  |  | Signature Agency, Inc.
|  |  | Signature Nationwide Auto Club of California, Inc.
|  |  | Signature's Nationwide Auto Club, Inc.
TRANSACTIONS GRANTED EARLY TERMINATION—06/12/2008
20081048 | L-1 Identity Solutions, Inc | Digimarc Corporation | Digimarc Corporation.
20081293 | GTCR Fund IX/A, L.P | IQNavigator, Inc | IQNavigator, Inc.
TRANSACTIONS GRANTED EARLY TERMINATION—06/13/2008
20081253 | AT&T Inc | América MóviI, S.A.B. de C.V | América Móvil, S.A.B. de C.V.
20081282 | Charterhouse Dragon I S.A | The North American Manufacturing Company | The North American Manufacturing Company.
20081292 | LG Continental LLC | PNM Resources, Inc | Public Service Company of New Mexico.
20081296 | PNM Resources, Inc | LG Continental LLC | Cap Rock Holding Corporation.
20081303 | Caledonia Investments plc | Bristow Group Inc | Bristow Group Inc.
20081314 | Metalmark Capital Partners, L.P | SPI Petroleum LLC | Maxum Petroleum, Inc.
20081322 | Global Infrastructure Partners—C, L.P | Reliant Energy Channelview LP | Reliant Energy Channelview LP.

FOR FURTHER INFORMATION CONTACT: Sandra M. Peay, Contact Representative, or Renee Hallman, Contact Representative, Federal Trade Commission, Premerger Notification Office, Bureau of Competition, Room H-303, Washington, DC 20580, (202) 326-3100.

By direction of the Commission.
Donald S. Clark,
Secretary.

[FR Doc. E8-14309 Filed 6-25-08; 8:45 am]

BILLING CODE 6750-01-M